DEPARTMENT OF THE INTERIOR

Bureau of Land Management

[WY-030-1430-FR; WYW 0323440]

Notice of Realty Action: Recreation and Public Purposes Act Classification of Public Lands in Carbon County, WY

AGENCY: Bureau of Land Management, Interior.

ACTION: Notice.

SUMMARY: The Bureau of Land Management (BLM) has examined and found suitable for classification for conveyance under the provisions of the Recreation and Public Purposes (R&PP) Act, as amended, approximately 140 acres of public land in Carbon County, Wyoming. The City of Rawlins proposes to continue the use of the land as the Rawlins landfill.

DATES: Interested parties may submit comments regarding the proposed conveyance or classification of the lands until August 22, 2008.

ADDRESSES: Send written comments to the Field Manager, Rawlins Field Office, 1300 North Third Street, Rawlins, Wyoming 82301.

FOR FURTHER INFORMATION CONTACT: Patrick Madigan, Field Manager, Bureau of Land Management, Rawlins Field Office, at (307) 328-4200.

SUPPLEMENTARY INFORMATION: In accordance with Section 7 of the Taylor Grazing Act, (43 U.S.C. 315f), and Executive Order No. 6910, the following described public land in Carbon County, Wyoming, has been examined and found suitable for classification for conveyance under the provisions of the R&PP Act, as amended, (43 U.S.C. 869 et seq.):

Sixth Principal Meridian, Wyoming

T. 22 N., R. 87 W.,

Sec. 34, N½SE¼E½SW¼SE¼,SE¼SE¼.

The land described contains 140 acres, more or less.

The above described public land was previously classified for lease only under the R&PP Act on August 22, 1966, and has been leased to the City of Rawlins for landfill purposes since December 15, 1966.

In accordance with the R&PP Act, the City of Rawlins filed an application for the above-described 140 acres of public land to be conveyed to Rawlins for continued use as the Rawlins landfill. Additional detailed information pertaining to this application, plan of development, and site plan is in case file WYW 0323440, located in the BLM Rawlins Field Office at the above address.

The land is not needed for any Federal purpose. The conveyance is consistent with the Rawlins Resource Management Plan and would be in the public interest. The patent, when issued, will be subject to the provisions of the R&PP Act and applicable regulations of the Secretary of the Interior, and will contain the following reservations to the United States:

1. A right-of-way thereon for ditches or canals constructed by the authority of the United States, Act of August 30, 1890 (43 U.S.C. 945); and

2. All minerals, together with the right to prospect for, mine, and remove such deposits from the same under applicable law and such regulations as the Secretary of the Interior may prescribe.

The patent will be subject to all valid existing rights documented on the official public land records at the time of patent issuance.

On August 22, 1966, the land described above was segregated from all other forms of appropriation under the public land laws, including the general mining laws, except for conveyance under the R&PP Act, leasing under the mineral leasing laws, and disposals under the mineral material disposal laws. The conveyance classification continues the existing segregative effect.

Classification Comments: Interested parties may submit comments involving the suitability of the land for a landfill. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision to convey under the R&PP Act, or any other factor not directly related to the suitability of the land for R&PP use.

Confidentiality of Comments: Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager—BLM Rawlins Field Office will be considered properly filed. Electronic mail, facsimile or telephone comments will not be considered properly filed.

Any adverse comments will be reviewed by the State Director. In the absence of any adverse comments, the classification of the land described in this notice will become effective September 8, 2008. The lands will not be available for conveyance until after the classification becomes effective.

Authority: 43 CFR part 2740.

Dated: June 18, 2008.
Patrick Madigan,
Field Manager, Rawlins, WY.

[FR Doc. E8-15366 Filed 7-7-08; 8:45 am]

BILLING CODE 4310-22-P